ENVIRONMENTAL PROTECTION AGENCY

[FRL-8048-6]

Science Advisory Board Staff Office; Request for Nominations of Experts To Serve on the Science Advisory Panel on the Distribution of Persistent Chemicals in Wastewater Treatment

AGENCY: Environmental Protection Agency (EPA).

ACTION: Notice.

SUMMARY: The EPA Science Advisory Board (SAB) Staff Office announces the formation of a new SAB panel known as the Science Advisory Board Advisory Panel on the Distribution of Persistent Chemicals in Wastewater Treatment, and is soliciting nominations for members of the Panel.

DATES: Nominations should be submitted by April 12, 2006 per the instructions below.

FOR FURTHER INFORMATION CONTACT: Any member of the public wishing further information regarding this Request for Nominations may contact Mr. Ron Josephson, Designated Federal Officer (DFO), via telephone/voice mail at (202) 343-9986; via e-mail at josephson.ron@epa.gov, or at the U.S. EPA Science Advisory Board (1400F), 1200 Pennsylvania Ave., NW., Washington, DC 20460. General information about the SAB can be found on the SAB Web site at: http://www.epa.gov/sab. Please direct any technical inquiries related to the study to Dr. David Macarus, who may be reached at (312) 353-5814 or by e-mail at macarus.david@epa.gov.

SUPPLEMENTARY INFORMATION: Background: The City of Chicago operates the Claumet Water Reclamation Plant (CWRP), a large Publicly Owned Treatment Works (POTW). The CWRP is the largest POTW in the city, draining an area of approximately 300 square miles. The city and EPA Region V are studying the distribution of polychlorinated biphenyls (PCBs), persistent toxic substances (PTS) and other chemicals in the wastewater influent, treatment plant, effluent, and sludges.

Persistent toxic substances enter the wastewater stream via atmospheric deposition and runoff into urban storm drains, commercial and residential wastewater, or industrial effluent. Some PTSs may also be formed in the wastewater treatment plant. Recent studies indicate the presence of elevated concentrations of mercury, polybrominated diethyl ethers, aklylphenolethoxylates, pharmaceutical compounds, and personal care products in the wastewater treatment plant effluent and receiving waters are the result of high usage or resistance to degradation and removal during treatment. EPA's Region V requested that the Science Advisory Board (SAB) review and advise on their study of the distribution of PTSs within the wastewater treatment plant.

The panel will consider the CWRP study and provide advice and recommendations on sampling design, uncertainties inherent in the investigation, and interpretations of the results. Future studies of fate, emissions, and transport of PTSs will be undertaken, and the panel will provide advice and recommendations on the future design and direction of such studies.

The SAB is a chartered Federal Advisory Committee, established by 42 U.S.C. 4365, to provide independent scientific and technical advice, consultation, and recommendations to the EPA Administrator on the technical bases for EPA policies and actions. The SAB Staff Office is forming an expert panel, to be known as the Science Advisory Board Advisory Panel on the Distribution of Persistent Chemicals in Wastewater Treatment, to provide early advice in the form of an advisory panel on Region V's proposed wastewater treatment persistent toxics analysis methodology. The SAB panel will comply with the provisions of the Federal Advisory Committee Act (FACA) and all appropriate SAB procedural policies. Members of the panel will be drawn from experts nominated in response to this notice and other sources. The work of the panel includes reviewing background material, participating in a few public teleconferences, and attending one or more public face-to-face meetings.

Request for Nominations: The SAB Staff Office is requesting nominations for nationally and internationally recognized non-EPA scientists with demonstrated research and applied scientific experience and expertise with respect to chemistry, fate, transport, treatment, and removal of PCBs, PTSs, and other chemicals in wastewater treatment in the following areas: POTWs, plant operations; wastewater systems flow analysis; chemical fate and transport, wastewater and sludge sampling and analysis methods; statistical design and analysis of complex studies; modeling; and handling of sludges.

Process and Deadline for Submitting Nominations: Any interested person or organization may nominate individuals qualified in the areas of expertise described above to serve on the SAB Panel. Nominations should be submitted in electronic format through the Form for Nominating Individuals to Panels of the EPA Science Advisory Board which can be accessed through a link on the blue navigational bar on the SAB Web site at: http://www.epa.gov/sab. To be considered, all nominations must include the information requested on that form.

Anyone who is unable to submit nominations using this form, and any questions concerning any aspects of the nomination process may contact the DFO, as indicated above in this notice. Nominations should be submitted in time to arrive no later than April 12, 2006. Any questions concerning either this process or any other aspects of this notice should be directed to the DFO. The process for forming a SAB panel is described in the Overview of the Panel Formation Process at the Environmental Protection Agency, Science Advisory Board (EPA-SAB-EC-COM-02-010), on the SAB Web site at http://www.epa.gov/sab/pdf/ec02010.pdf.

The SAB Staff Office will acknowledge receipt of the nomination and inform nominees of the panel for which they have been nominated. From the nominees identified by respondents to this Federal Register notice (termed the “Widecast”) and other sources, the SAB Staff Office will develop a smaller subset (known as the “Short List”) for more detailed consideration. The Short List will be posted on the SAB Web site at: http://www.epa.gov/sab/ and will include, for each candidate, the nominee's name and biosketch. Public comments on the Short List will be accepted for 21 calendar days. During this comment period, the public will be requested to provide information, analysis or other documentation on nominees that the SAB Staff Office should consider in evaluating candidates for the Panels.

For the SAB, a balanced panel is characterized by inclusion of candidates who possess the necessary domains of knowledge, the relevant scientific perspectives (which, among other factors, can be influenced by work history and affiliation), and the collective breadth of experience to adequately address the charge. Public responses to the Short List candidates will be considered in the selection of the panels, along with information provided by candidates and information gathered by SAB Staff independently of the background of each candidate (e.g., financial disclosure information and computer searches to evaluate a nominee's prior involvement with the topic under review). Specific criteria to be used in evaluation of an individual Panel member include: (a) Scientific and/or technical expertise, knowledge, and experience (primary factors); (b) absence of financial conflicts of interest; (c) scientific credibility and impartiality; (d) availability and willingness to serve; and (e) ability to work constructively and effectively in committees.

Short List candidates will be required to fill-out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

Dated: March 16, 2006.
Anthony F. Maciorowski,
Associated Director for Science, EPA Science Advisory Board Staff Office.

[FR Doc. 06-2775 Filed 3-21-06; 8:45 am]

BILLING CODE 6560-50-M